ENVIRONMENTAL PROTECTION AGENCY

[OAR-2003-0225; FRL-7636-3]

Agency Information Collection Activities; Submission to OMB for Review and Approval; Comment Request; Mobile Source Emission Factors: Populations, Usage and Emissions of Diesel Nonroad Equipment in EPA Region 7 (Survey), EPA ICR Number 0619.11, OMB Control Number 2060-0078

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before April 14, 2004.

ADDRESSES: Submit your comments, referencing docket ID number OAR-2003-0225 to (1) EPA online using EDOCKET (our preferred method), by email to http://www.epa.gov/edocket, or by mail to: EPA Docket Center, Environmental Protection Agency, Air and Radiation Docket and Information Center, mailcode 6102T, 1200 Pennsylvania Ave., NW, Washington, DC 20460, and (2) OMB at: Office of Information and Regulatory Affairs, Office of Management and Budget (OMB), Attention: Desk Officer for EPA, 725 17th Street, NW, Washington, DC 20503.

FOR FURTHER INFORMATION CONTACT: James Warila, Office of Transportation and Air Quality, mailcode ASD, Environmental Protection Agency, 2000 Traverwood Drive, Ann Arbor, Michigan, 48105; telephone number: 734-214-4951; fax number: 734-214-4821; email address: warila.james@epa.gov.

SUPPLEMENTARY INFORMATION: EPA has submitted the following ICR to OMB for review and approval according to the procedures prescribed in 5 CFR 1320.12. On September 22, 2000, (65 FR 83008), EPA sought comments on this ICR pursuant to 5 CFR 1320.8(d). EPA received no comments.

EPA has established a public docket for this ICR under Docket ID No. OAR-2003-0225, which is available for public viewing at the Air and Radiation Docket in the EPA Docket Center (EPA/DC), EPA West, Room B102, 1301 Constitution Ave., NW, Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Mobile Source Emission Factors: Populations, Usage and Emissions of Diesel Nonroad Equipment in EPA Region 7 (Survey)

Abstract: In response to recommendations from the National Research Council of the National Academy of Sciences, EPA is initiating a systematic data collection designed to improve the methods and tools used by the Agency to estimate emissions from nonroad equipment. Data to be collected include populations, usage rates (activity) and “in-use” or “real-world” emission rates.

The collection is a survey, to be conducted by the Office of Transportation and Air Quality (OTAQ) in the Office of Air and Radiation (OAR). Development of rapid in-use instrumentation promises to substantially reduce the cost of emissions measurement for nonroad equipment. This study will combine rapid in-use measurement capability with statistical survey design to improve the representation of nonroad engine populations. The goal to conduct a pilot survey designed to develop methods and protocols needed to collect data on populations, activity and in-use emissions of diesel nonroad equipment. Response to the survey is voluntary.

The target population includes nonroad equipment used by commercial establishments in the Mining, Construction, Manufacturing and Agricultural sectors. The study area for this collection will be EPA Region 7. To estimate the prevalence of equipment ownership in the target sectors, 1,540 establishments will be requested to respond to brief interviews regarding their equipment ownership and use. The total sample size for instrumented measurement is 360 equipment pieces, with 150 and 210 pieces targeted for emissions and usage measurement, respectively.

Emissions and usage will be measured using portable on-board electronic instrumentation. Emissions instrumentation will measure carbon dioxide (CO2) and several air pollutants on an instantaneous basis during normal operation over a period of one to three days. Air pollutants to be measured include carbon monoxide (CO), total hydrocarbons (THC), oxides of nitrogen (NOX) and particulate matter (PM). The usage instrument will measure engine on/off over a period of approximately three months.

Data will be collected during normal operation at the respondents' facilities or work sites. Following quality-assurance and analysis, the data will be stored in OTAQ's Mobile Source Observation Database. The information collection will involve 1,900 respondents at a cost of $91,900.

The legislative basis for gathering this data is section 103(a)(1)(2)(3) of the Clean Air Act, which requires the Administrator to “conduct * * * research, investigations, experiments, demonstrations, surveys, and studies relating to the causes, effects, extent, prevention, and control of air pollution” and “conduct investigations and research and make surveys concerning any specific problem of air pollution in cooperation with any air pollution control agency * * *.”

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 0.42 to 0.75 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Commercial establishments in the Mining, Construction, Manufacturing and Agricultural Sectors (NAICS 21, 23, 31-33, and 111, respectively).

Estimated Number of Respondents: 1,900.

Frequency of Response: one-time event.

Estimated Total Annual Hour Burden: 1,060.

Estimated Total Annual Cost: $91,900, includes $0 annualized capital or O&M costs.

Dated: March 4, 2004.
Oscar Morales,
Director, Collection Strategies Division.

[FR Doc. 04-5764 Filed 3-12-04; 8:45 am]

BILLING CODE 6560-50-P